DEPARTMENT OF THE TREASURY

Fiscal Service

Surety Companies Acceptable on Federal Bonds: Change in State of Incorporation; Bond Safeguard Insurance Company; Correction

AGENCY: Bureau of the Fiscal Service, Fiscal Service, Department of the Treasury.

ACTION: Notice; Correction.

SUMMARY: The Fiscal Service published in the Federal Register of February 25, 2014, 79 FR 10624, Supplement No. 4 to Treasury Department Circular 570, 2013 Revision.

Supplement No. 4 provided notice that BOND SAFEGUARD INSURANCE COMPANY had redomesticated from the state of Illinois to the state of South Dakota effective December 9, 2013, and that Federal bond-approving officials should annotate their reference copies of the Treasury Department Circular 570, 2013 Revision, to reflect this change. This notice information was correctly stated in the first paragraph of the Supplementary Information section.

Supplement No. 4 provided incorrect notice information in the second paragraph of the Supplementary Information section. The second paragraph stated: “With respect to any bonds currently in force with this company, bond-approving officers may let such bonds run to expiration and need not secure new bonds. However, no new bonds should be accepted from this company and bonds that are continuous in nature should not be renewed.” Supplement No. 4 is being corrected to delete this second paragraph because it only applies (and should only be included in notices) when a surety has been removed or terminated from Treasury Circular 570, which is not the case here. BOND SAFEGUARD INSURANCE COMPANY is and continues to be an acceptable surety on Federal bonds which meets Treasury Circular 570 requirements.

FOR FURTHER INFORMATION CONTACT: Surety Bond Branch at (202) 874-6850.

Correction

In the Federal Register of February 25, 2014, in FR Doc. 2014-03915, on page 10624, in the first column, delete the paragraph reading: “With respect to any bonds currently in force with this company, bond-approving officers may let such bonds run to expiration and need not secure new bonds. However, no new bonds should be accepted from this company and bonds that are continuous in nature should not be renewed.”

Dated: February 27, 2014.
Kevin McIntyre,
Manager, Financial Accounting and Services Branch, Bureau of the Fiscal Service.

[FR Doc. 2014-05078 Filed 3-7-14; 8:45 am]

BILLING CODE 4810-35-P